DEPARTMENT OF JUSTICE

Notice of Lodging of Proposed Consent Decree Under the Comprehensive Environmental Response, Compensation, and Liability Act

On November 7, 2014 the Department of Justice lodged a proposed Consent Decree with the United States District Court for the District of Oregon in the lawsuit entitled United States v. Linnton Plywood Association, Civil Action No. 3:14-1772.

The United States' complaint in the case on behalf of the Environmental Protection Agency (EPA), the Department of Interior (DOI) and the National Oceanic and Atmospheric Administration (NOAA), United States Department of Commerce, seeks recovery of costs that the United States has incurred and will incur in responding to, and natural resource damages resulting from, releases or threatened releases of hazardous substances at the Portland Harbor Superfund Site in Portland, Oregon, pursuant to the Comprehensive Environmental Response, Compensation, and Liability Act. The Consent Decree resolves these claims based on Defendant Linnton Plywood Association's (LPA) limited ability to pay. Under the Consent Decree, LPA will (a) pay the United States $450,000; (b) sell its remaining real property within the Portland Harbor Superfund Site and pay the net proceeds from that sale to the United States; and (c) establish and assign certain rights under its insurance policies to the Portland Harbor Superfund Site Insurance Recovery Trust. The Trust, to be established by the Trust Agreement which is attached to the Consent Decree, will seek coverage pursuant to the assigned insurance rights and direct the proceeds of any recoveries to the United States. All payments under the Consent Decree and proceeds from the Trust will be divided 75% to EPA and 25% to DOI and NOAA as natural resource damage trustees.

The publication of this notice opens a period for public comment on the Consent Decree. Comments should be addressed to the Assistant Attorney General, Environment and Natural Resources Division, and should refer to United States v. Linnton Plywood Association, D.J. Ref. No. 90-11-2-06787/3. All comments must be submitted no later than thirty (30) days after the publication date of this notice. Comments may be submitted either by email or by mail:

To submit comments: | Send them to:
By e-mail | pubcomment-ees.enrd@usdoj.gov.
By mail | Assistant Attorney General, U.S. DOJ-ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ-ENRD, P.O. Box 7611, Washington, DC 20044-7611.

Please enclose a check or money order for $18.75 (25 cents per page reproduction cost) payable to the United States Treasury. For a paper copy without the exhibits and signature pages, the cost is $8.75.

Susan Akers,
Assistant Section Chief, Environmental Enforcement Section, Environment and Natural Resources Division.

[FR Doc. 2014-27074 Filed 11-14-14; 8:45 am]

BILLING CODE 4410-15-P